DEPARTMENT OF THE INTERIOR

Fish and Wildlife Service

[FWS-R7-SM-2019-N044; FXRS12610700000-189-FF07J00000; FBMS#4500089778; OMB Control Number 1018-0075]

Agency Information Collection Activities; Submission to the Office of Management and Budget for Review and Approval; Federal Subsistence Regulations and Associated Forms

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before May 28, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: AMAD-ARM-PPM, 5275 Leesburg Pike, Falls Church, VA 22041-3803 (mail); or by email to Info_Coll@fws.gov. Please reference OMB Control Number 1018-0075 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On September 28, 2018, we published a Federal Register notice soliciting comments on this collection of information for 60 days, ending on November 27, 2018 (83 FR 49121). We received no comments in response to the Federal Register notice.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Alaska National Interest Lands Conservation Act (ANILCA; 16 U.S.C. 3111-3126), and regulations in the Code of Federal Regulations (CFR) at 50 CFR part 100 and 36 CFR part 242, require persons engaged in taking fish, shellfish, and wildlife on public lands in Alaska for subsistence uses to apply for and obtain a permit to do so, and comply with reporting provisions of that permit.

We currently use three forms in the recruitment and selection of members for regional advisory councils:

(1) FWS Form 3-2321, “Federal Subsistence Regional Advisory Council Membership Application/Nomination.”

(2) FWS Form 3-2322, “Regional Advisory Council Candidate Interview.”

(3) FWS Form 3-2323, “Regional Advisory Council Reference/Key Contact Interview.”

The member selection process begins with the information that we collect on the application. Ten interagency review panels interview all applicants and nominees, their references, and regional key contacts. These contacts are based on the information that the applicant provides on the application form. The information that we collect through the application form and subsequent interviews is the basis of the Federal Subsistence Board's recommendations to the Secretaries of the Interior and Agriculture for appointment and reappointment of council members.

We are revising this collection to add a fourth form to the collection: FWS Form 3-2300, “Federal Subsistence Regional Advisory Council Membership Incumbent Application.” This form asks for less information than the regular initial membership application form (3-2321); we introduce this form in order to reduce the burden on any individuals seeking to continue to serve on the Council.

We use the following forms to collect information from qualified rural residents for subsistence harvest:

(1) FWS Form 3-2326, “Federal Subsistence Hunt Application, Permit, and Report.”

(2) FWS Form 3-2327, “Designated Hunter Permit Application, Permit, and Report.”

(3) FWS Form 3-2328, “Federal Subsistence Fishing Application, Permit, and Report.”

(4) FWS Form 3-2378, “Designated Fishing Permit Application, Permit, and Report.”

(5) FWS Form 3-2379, “Federal Subsistence Customary Trade Recordkeeping Form.”

We use the information collected to evaluate:

• Eligibility of applicant.

• Subsistence harvest success.

• Effectiveness of season lengths, harvest quotas, and harvest restrictions.

• Hunting patterns and practices.

• Hunter use.

The Federal Subsistence Board uses the harvest data, along with other information, to set future season dates and harvest limits for Federal subsistence resource users. These seasons and harvest limits are set to meet the needs of subsistence users without adverse impact to the health of existing animal populations.

In addition to the above forms, regulations at 50 CFR part 100 and 36 CFR part 242 contain requirements for the collection of information. We collect nonform information on:

(1) Repeal of Federal subsistence rules and regulations (50 CFR 100.14 and 36 CFR 242.14).

(2) Proposed changes to Federal subsistence regulations (50 CFR 100.18 and 36 CFR 242.18).

(3) Special action requests (50 CFR 100.19 and 36 CFR 242.19).

(4) Requests for reconsideration (50 CFR 100.20 and 36 CFR 242.20).

(5) Requests for permits and reports, such as traditional religious/cultural/educational permits, fishwheel permits, fyke net permits, and under-ice permits (50 CFR 100.25-27 and 36 CFR 242.25-27).

Title of Collection: Federal Subsistence Regulations and Associated Forms, 50 CFR 100 and 36 CFR 242.

OMB Control Number: 1018-0075.

Form Number: FWS Forms 3-2300, 3-2321 through 3-2323, 3-2326 through 3-2328, and 3-2378 through 3-2379.

Type of Review: Revision of a currently approved collection.

Respondents/Affected Public: Individuals; private sector; and State, local, and tribal governments. Most respondents are individuals who are federally defined rural residents in Alaska.

Respondent's Obligation: Required to Obtain or Retain a Benefit.

Frequency of Collection: On occasion.

Total Estimated Annual Nonhour Burden Cost: None.

Form/activity | Number of annual respondents | Number of annual responses | Completion time per response | Total annual burden hours *
FWS Form 3-2300 NEW | 6 | 6 | 30 mins | 3
FWS Form 3-2321 | 76 | 76 | 2 hours | 152
FWS Form 3-2322 | 76 | 76 | 30 mins | 38
FWS Form 3-2323 (Individuals) | 165 | 165 | 15 mins | 41
FWS Form 3-2323 (Government) | 24 | 24 | 15 mins | 6
FWS Form 3-2326 | 11,141 | 11,141 | 15 mins | 2,785
FWS Form 3-2327 | 701 | 701 | 15 mins | 175
FWS Form 3-2328 | 2,136 | 2,136 | 15 mins | 534
FWS Form 3-2378 | 58 | 58 | 15 mins | 15
FWS Form 3-2379 | 18 | 18 | 15 mins | 5
Petition to Repeal | 1 | 1 | 2 hours | 2
Proposed Changes | 70 | 70 | 30 mins | 35
Special Actions Request | 17 | 17 | 30 mins | 9
Request for Reconsideration (Appeal) | 741 | 741 | 4 hours | 2,964
Traditional/Cultural/Educational Permits and Reports | 5 | 5 | 30 mins | 3
Fishwheel, Fyke Net, and Under-Ice Permits and Reports | 7 | 7 | 15 mins | 2
Totals | 15,242 | 15,242 |  | 6,769
* Rounded.

An agency may not conduct or sponsor and a person is not required to respond to a collection of information unless it displays a currently valid OMB control number.

The authority for this action is the Paperwork Reduction Act of 1995 (44 U.S.C. 3501 et seq.).

Dated: April 23, 2019.
Madonna Baucum,
Information Collection Clearance Officer, U.S. Fish and Wildlife Service.

[FR Doc. 2019-08411 Filed 4-25-19; 8:45 am]

BILLING CODE 4333-15-P